DEPARTMENT OF HEALTH AND HUMAN SERVICES

Centers for Disease Control and Prevention

[60Day-23-0910; Docket No. CDC-2023-0004]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Message Testing for Tobacco Communication Activities (MTTCA). The primary purpose and use of information collected under MTTCA is to inform the development and pretesting of materials for the CDC's ongoing National Tobacco Education Campaign (NTEC), and other health messages that are not specifically associated with the NTEC (e.g., Surgeon General's Reports).

DATES: CDC must receive written comments on or before March 24, 2023.

ADDRESSES: You may submit comments, identified by Docket No. CDC-2023-0004 by any of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Message Testing for Tobacco Communication Activities (MTTCA) (OMB Control No. 0920-0910, Exp. 01/31/2024)—Revision—National Center for Chronic Disease Prevention and Health Promotion (NCCDPH), Centers for Disease Control and Prevention (CDC).

Background and Brief Description

CDC has employed the Message Testing for Tobacco Communication Activities (MTTCA, OMB Control No. 0920-0910) clearance since 2012. The MTTCA clearance collects information about attitudes and perceptions among adults who smoke and adults who don't smoke, and is designed to pretest draft messages and materials for clarity, salience, appeal, and persuasiveness. The MTTCA clearance has been used to obtain OMB approval for a variety of message testing activities, with particular emphasis on communications supporting CDC's National Tobacco Education Campaign (NTEC) called the Tips From Former Smokers® campaign. This national campaign is designed to increase public awareness of the health consequences of tobacco use and exposure to secondhand smoke. The MTTCA clearance has also supported formative research relating to the development of health messages for a campaign to encourage educators to speak with middle and high school students about the risks of e-cigarette use and empower them to avoid or quit e-cigarettes.

Information collection modes under the MTTCA clearance that are supported include in-person and online in-depth interviews; in-person and online focus groups; and online surveys. Each project approved under the MTTCA framework is outlined in a project specific Generic Information Collection Request (GenIC) that describes its purpose and methodology. Messages developed from MTTCA data collection have been disseminated via multiple media channels including television, radio, print, out-of-home, and digital formats.

CDC requests OMB approval for a Revision to the MTTCA clearance, for three years. Requested changes are to increase the number of respondents and burden hours. These adjustments will support data collections among people who smoke and people who do not smoke, including, but not limited to, people who smoke and are members of populations that are disproportionately affected by commercial tobacco (e.g., people from racial and ethnic minority groups, people who are LGBTQ+, people of lower socioeconomic status, etc.), adult influencers of middle and high school students (e.g., educators, parents and health care providers), and youth aged 13-17 years. No modification is requested for information collection activities, methodology, or populations of interest from the existing Generic Clearance.

This Revision and requested changes are needed to support CDC's planned information collections and to accommodate additional needs that CDC may identify during the next three years. For example, the MTTCA Generic Clearance may be used to facilitate the development of tobacco-related health communications of interest for CDC's collaborative efforts with other federal partners including, but not limited to, the Food and Drug Administration's (FDA) Center for Tobacco Products. The MTTCA clearance should not replace the need for additional Generic Clearance mechanisms of HHS and other federal partners that may need to test tobacco messages related to their campaigns and initiatives.

CDC requests OMB approval for an estimated 20,039 annualized burden hours. Participation is voluntary and there are no costs to respondents other than their time.

Estimated Annualized Burden Hours
Type of respondents | Form name | Number of respondents | Number of responses per respondent | Average burden per response (in hours) | Total burden (in hours)
General Public and Special Populations | Screening | 74,386 | 1 | 2/60 | 2,480
General Public and Special Populations | In-Depth Interviews (Online, In Person) | 25 | 1 | 1 | 25
General Public and Special Populations | Focus Groups (Online, In Person) | 628 | 1 | 1.5 | 942
General Public and Special Populations | Surveys (Online, Short) | 71,000 | 1 | 20/60 13/60 | 15,453
General Public and Special Populations | Surveys (Online, Medium) | 2,733 | 1 | 25/60 | 1,139
Total |  |  |  |  | 20,039

Jeffrey M. Zirger,
Lead, Information Collection Review Office, Office of Scientific Integrity, Office of Science, Centers for Disease Control and Prevention.

[FR Doc. 2023-01162 Filed 1-20-23; 8:45 am]

BILLING CODE 4163-18-P